DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2001, there were nine applications approved. Additionally, 35 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Hall County Airport Authority, Grand Island, Nebraska.

Application Number: 00-02-C-00-GRI.

Application Type: Impose and use a PFC.

PFC Level: $4.50.

Total PFC Revenue Approved in This Decision: $578,060.

Earliest Charge Effective Date: May 1, 2001.

Estimated Charge Expiration Date: April 1, 2008.

Class of Air Carriers Not Required To Collect PFC's: None.

Brief Description of Projects Approved for Collection and Use:

Ramp project

Terminal renovation and addition

Runway/taxiway cable replacement

Rehabilitate, relocate and construct runway 13/31

New taxiway

Decision Date: February 1, 2001.

FOR FURTHER INFORMATION CONTACT: Lorna Sandridge, Central Region Airports Division, (816) 329-2641.

Public Agency: Glynn County Airport Commission, Brunswick, Georgia.

Application Number: 00-01-C-00-BQK.

Application Type: Impose and use a PFC.

PFC Level: $3.00.

Total PFC Revenue Approved in This Decision: $517,141.

Earliest Charge Effective Date: May 1, 2001.

Estimated Charge Expiration Date: January 1, 2011.

Class of Air Carriers Not Required To Collect PFC's: Non-scheduled certificated air carriers filing DOT Form T-100.

Determination: Approved. Based on information contained in the public agency's application, the FAA has determined that the approved class accounts for less than 1 percent of the total annual enplanements at Glynco Jetport (BQK).

Brief Description of Projects Approved for Collection at BQK and Use at BQK:

Airport master plan

Baggage claim area

Aircraft rescue and firefighting (ARFF) extension

Repaint runway markings

Taxiway fillets drainage rehabilitation

Construct ARFF maintenance facility

Terminal roadway improvements

Brief Description of Project Approved for Collection at BQK and Use at Malcolm McKinnon Airport: Airport master plan.

Brief Description of Project Approved for Collection at BQK for Future Use at BQK: Airline terminal renovation.

Decision Date: February 9, 2001.

FOR FURTHER INFORMATION CONTACT: Tracie Dominy, Atlanta Airports District Office, (404) 305-7148.

Public Agency: City of Philadelphia, Division of Aviation, Philadelphia, Pennsylvania.

Application Number: 01-09-C-00-PHL.

Application Type: Impose and use a PFC.

PFC Level: $3.00.

Total PFC Revenue Approved in This Decision: $22,250,000.

Earliest Charge Effective Date: July 1, 2007.

Estimated Charge Expiration Date: March 1, 2008.

Class of Air Carriers Not Required To Collect PFC's: Air taxi/commercial operators filing FAA Form 1800-31.

Determination: Approved. Based on information contained in the public agency's application, the FAA has determined that the approved class accounts for less than 1 percent of the total annual enplanements at Philadelphia International Airport.

Brief Description of Projects Approved for Collection and Use

Firefighting training facility

Terminal D expansion

Moving sidewalks between terminals C and D

Decision Date: February 22, 2001.

FOR FURTHER INFORMATION CONTACT: Roxane Wren, Harrisburg Airports District Office, (717) 730-2830.

Public Agency: Metropolitan Nashville Airport Authority, Nashville, Tennessee.

Application Number: 01-08-C-00-BNA.

Application Type: Impose and use a PFC.

PFC Level: $3.00.

Total PFC Revenue Approved in This Decision: $3,727,000.

Earliest Charge Effective Date: June 1, 2002.

Estimated Charge Expiration Date: September 1, 2002.

Class of Air Carriers Not Required To Collect PFC's: Air taxi.

Determination: Approved. Based on information contained in the public agency's application, the FAA has determined that the approved class accounts for less than 1 percent of the total annual enplanements at Nashville International Airport.

Brief Description of Projects Approved for Collection and Use:

Design fee—terminal access roadway

Baggage information display system

Airfield pavement rehabilitation

Terminal apron reconstruction

Air cargo ramp expansion

Radio communication system

Airport master plan

Update noise exposure maps

Brief Description of Project Withdrawn: Taxiway connector.

Determination: This project was withdrawn by the public agency in its letter dated October 6, 2000. Therefore, the FAA will not rule on this project in this decision.

Decision Date: February 23, 2001.

FOR FURTHER INFORMATION CONTACT: Cynthia K. Wills, Memphis Airports District Office, (901) 544-3495, extension 16.

Public Agency: City of Killeen, Texas.

Application Number: 01-05-C-00-ILE.

Application Type: Impose and use a PFC.

PFC Level: $4.50.

Total PFC Revenue Approved in This Decision: $30,000.

Earliest Charge Effective Date: April 1, 2005.

Estimated Charge Expiration Date: May 1, 2005.

Class of Air Carriers Not Required To Collect PFC's: Part 135 air taxi/commercial operators (charter operators).

Determination: Approved. Based on information contained in the public agency's application, the FAA has determined that the approved class accounts for less than 1 percent of the total annual enplanements at Killeen Municipal Airport (ILE).

Brief Description of Project Approved for Collection at ILE and Use at Robert Gray Army Airfield (GRK): Acquire terminal site land.

Brief Description of Project Approved for Use at GRK:

Terminal facility site work and utilities

Passenger terminal building and apron

Construct east side parallel and connecting taxiways to runway 15/33 at GRK

Brief Description of Project Withdrawn: Runway safety improvements at ILE.

Determination: This project was withdrawn by the public agency in its letter dated January 26, 2001. Therefore, the FAA will not rule on this project in this decision.

Decision Date: February 23, 2001.

FOR FURTHER INFORMATION CONTACT: G. Thomas Wade, Southwest Region Airports Division, (817) 222-5613.

Public Agency: County of Dickinson, Iron Mountain, Michigan.

Application Number: 01-04-C-00-IMT.

Application Type: Impose and use a PFC.

PFC Level: $3.00.

Total PFC Revenue Approved in This Decision: $73,815.

Earliest Charge Effective Date: March 1, 2001.

Estimated Charge Expiration Date: December 1, 2003.

Class of Air Carriers Not Required To Collect PFC's: None.

Brief Description of Project Approved for Collection and Use: Rehabilitate runway 01/19 and runway 31.

Brief Description of Project Approved for Collection: Rehabilitate runway 13, correct line of sight, construct runway 13 safety area.

Decision Date: February 26, 2001.

FOR FURTHER INFORMATION CONTACT: Jon Gilbert, Detroit Airports District Office, (734) 487-7281.

Public Agency: Brainerd-Crow Wing County Regional Airport Commission, Brainerd, Minnesota.

Application Number: 01-03-C-00-BRD.

Application Type: Impose and use a PFC.

PFC Level: $4.50.

Total PFC Revenue Approved in This Decision: $488,231.

Earliest Charge Effective Date: July 1, 2001.

Estimated Charge Expiration Date: July 1, 2006.

Class of Air Carriers Not Required To Collect PFC's: Air taxi/commercial operators.

Determination: Approved. Based on information contained in the public agency's application, the FAA has determined that the approved class accounts for less than 1 percent of the total annual enplanements at Brainerd-Crow Wing County Regional Airport.

Brief Description of Projects Approved for Collection and Use at a $4.50 PFC Level:

Airport layout plan update.

Phase II archeological study.

Acquire snowblower.

Design and install runway 5 medium intensity approach lighting system.

Clearing/grubbing and obstruction removal.

Install deer fencing.

Master plan update/benefit cost analysis.

Acquire ARFF replacement vehicle.

Runway 5/23 friction improvements.

Southwest development area.

Terminal road repair and reconstruction.

Acquire 1-ton utility truck and plow.

Acquire end loader and ramp plow.

PFC application preparation.

Brief Description of Project Approved for Collection and Use at a $3.00 PFC Level: Sealcoat general aviation apron.

Decision Date: February 26, 2001.

FOR FURTHER INFORMATION CONTACT: Gordon Nelson, Minneapolis Airports District Office, (612) 713-4358.

Public Agency: State of Connecticut, Department of Transportation, Bureau of Aviation and Ports, Windsor Locks, Connecticut.

Application Number: 01-12-C-00-BRD.

Application Type: Impose and use a PFC.

PFC Level: $4.50.

Total PFC Revenue Approved in This Decision: $231,947,428.

Earliest Charge Effective Date: May 1, 2001.

Estimated Charge Expiration Date: March 1, 2015.

Class of Air Carriers Not Required To Collect PFC's: On-demand air taxi/commercial operators.

Determination: Approved. Based on information contained in the public agency's application, the FAA has determined that the approved class accounts for less than 1 percent of the total annual enplanements at Bradley International Airport.

Brief Description of Projects Approved for Collection and Use at a $4.50 PFC Level:

Terminal building and concourse construction and reconstruction.

Purchase and install jetways.

Brief Description of Project Approved for Collection and Use at a $3.00 PFC Level: Construction of terminal roadways, glycol pipine and associated utilities.

Decision Date: February 27, 2001.

FOR FURTHER INFORMATION CONTACT: Priscilla Scott, New England Region Airports Division, (781) 238-7614.

Public Agency: Broward County Aviation Department. Fort Lauderdale, Florida.

Application Number: 01-03-C-00-FLL.

Application Type: Impose and use a PFC.

PFC Level: $3.00.

Total PFC Revenue Approved in This Decision: $27,841,586.

Earliest Charge Effective Date: November 1, 2007.

Estimated Charge Expiration Date: March 1, 2009.

Class of Air Carriers Not Required To Collect PFC's: Air taxi/commercial operators filing FAA Form 1800-31.

Determination: Approved. Based on information contained in the public agency's application, the FAA has determined that the approved class accounts for less than 1 percent of the total annual enplanements at Fort Lauderdale-Hollywood International Airport.

Brief Description of Projects Approved for Collection and Use:

Concourse B—terminal.

Concourse B—apron.

Decision Date: February 27, 2001.

FOR FURTHER INFORMATION CONTACT: Jennifer Ganley, Orlando Airports District Office, (407) 812-6331, extension 25.

Amendments to PFC Approvals
Amendment No. | Amendment approved | Original approved net PFC | Amended approved net PFC | Original estimated charge | Amended estimated charge
City, State | Date | Revenue | Revenue | Exp. Date | Exp. Date
92-01-I-05-CHO, Charlottesville, VA | 02/23/01 | $298,609 | $230,657 | 11/01/93 | 08/01/93
92-01-I-06-CHO, Charlottesville, VA | 01/24/01 | 230,657 | 240,681 | 08/01/93 | 08/01/93
92-01-I-07-CHO, Charlottesville, VA | 01/25/01 | 240,681 | 160,681 | 08/01/93 | 08/01/93
92-02-U-01-CHO, Charlottesville, VA | 01/25/01 | NA | NA | 08/01/93 | 08/01/93
93-03-U-01-CHO, Charlottesville, VA | 01/26/01 | NA | NA | 08/01/93 | 08/01/93
94-05-I-04-CHO, Charlottesville, VA | 01/29/01 | 1,567,862 | 1,513,512 | 04/01/98 | 07/01/98
94-05-I-05-CHO, Charlottesville, VA | 01/29/01 | 1,513,512 | 1,519,479 | 07/01/98 | 07/01/98
95-06-U-02-CHO, Charlottesville, VA | 01/29/01 | NA | NA | 07/01/98 | 07/01/98
96-09-U-01-CHO, Charlottesville, VA | 01/29/01 | NA | NA | 07/01/98 | 07/01/98
92-01-C-01-GTR\*\, Columbus, MS | 01/30/01 | 1,693,211 | 1,693,211 | 09/01/06 | 01/01/04
99-02-C-01-APF, Naples, FL | 02/01/01 | 250,000 | 186,606 | 02/01/01 | 02/01/01
99-12-C-01-CHO, Charlottesville, VA | 02/01/01 | 160,000 | 181,069 | 12/01/04 | 10/01/04
98-02-C-02-MLB, Melbourne, FL | 02/02/01 | 614,362 | 666,602 | 07/01/99 | 08/01/99
92-01-C-04-PNS, Pensacola, FL | 02/09/01 | 8,270,500 | 8,585,500 | 04/01/98 | 06/01/98
95-03-C-02-PNS, Pensacola, FL | 02/09/01 | 1,860,000 | 1,860,000 | 06/01/99 | 08/01/99
95-02-C-05-BGM, Binghamton, NY | 02/09/01 | 1,021,843 | 1,063,924 | 04/01/06 | 04/01/06
99-04-C-02-BGM, Binghamton, NY | 02/09/01 | 1,567,748 | 1,567,748 | 04/01/06 | 04/01/06
97-03-C-03-SGF\*\, Springfield, MO | 02/12/01 | 6,370,614 | 6,370,614 | 07/01/05 | 01/01/04
94-02-C-02-BRD, Brainerd, MN | 02/13/01 | 266,345 | 266,345 | 07/01/01 | 07/01/01
94-01-C-02-BTM, Butte, MT | 02/13/01 | 600,326 | 716,407 | 04/01/01 | 08/01/04
97-03-C-01-TOL, Toledo, OH | 02/13/01 | 6,750,400 | 5,500,400 | 11/01/04 | 08/01/04
94-01-I-02-LWS\*\, Lewiston, ID | 02/14/01 | 2,509,907 | 2,509,907 | 03/01/11 | 10/01/06
95-02-U-02-LWS\*\, Lewiston, ID | 02/14/01 | NA | NA | 03/01/11 | 10/01/06
99-03-C-01-MAF, Midland, TX | 02/14/01 | 2,250,000 | 0 | 01/01/18 | 07/01/16
99-05-C-02-CVG, Covington, KY | 02/15/01 | 14,325,000 | 19,225,000 | 08/01/00 | 11/01/01
96-04-C-01-ESC, Escanaba, MI | 02/15/01 | 15,870 | 15,177 | 10/01/00 | 10/01/00
93-01-C-03-DCA\*\, Arlington, VA | 02/16/01 | 169,423,353 | 169,423,353 | 05/01/02 | 02/01/02
94-02-U-02-DCA\*\, Arlington, VA | 02/16/01 | NA | NA | 05/01/02 | 02/01/02
98-03-C-02-DCA\*\, Arlington, VA | 02/16/01 | 46,823,287 | 46,823,287 | 10/01/05 | 09/01/03
98-04-C-01-DCA\*\, Arlington, VA | 02/20/01 | 73,203,813 | 73,203,813 | 10/01/09 | 03/01/06
94-01-C-04-PIH\*\, Pocatello, ID | 02/21/01 | 814,719 | 814,719 | 12/01/01 | 10/01/01
97-02-U-03-PIH\*\, Pocatello, ID | 02/21/01 | NA | NA | 12/01/01 | 10/01/01
93-01-C-04-IDA\*\, Chantilly, VA | 02/21/01 | 225,967,396 | 225,967,396 | 02/01/04 | 05/01/03
98-02-C-03-IAD\*\, Chantilly, VA | 02/21/01 | 52,324,581 | 52,324,581 | 04/01/11 | 05/01/05
99-04-C-01-ILE\*\, Killeen, TX | 02/23/01 | 2,103,726 | 2,103,726 | 07/01/05 | 07/01/03
(NOTE: The amendments denoted by an asterisk (*) include a change to the PFC level charged from $3.00 per enplaned passenger to $4.50 per enplaned passenger. For Columbus, MS, this change is effective on April 1, 2001. For Lewiston, ID, Pocatello, ID, Killeen, TX, Arlington, VA (Washington National), and Chantilly, VA (Washington Dulles), this change is effective on May 1, 2001.

Issued in Washington, DC on April 12, 2001.
Eric Gabler,
Manager, Passenger Facility Charge Branch.

[FR Doc. 01-9605 Filed 4-17-01; 8:45 am]

BILLING CODE 4910-13-M